DEPARTMENT OF ENERGY

Federal Energy Regulatory Commission

Combined Notice of Filings #1

Take notice that the commission received the following accounting Request filings:

Docket Numbers: AC25-50-000.

Applicants: PacifiCorp.

Description: PacificCorp submits proposed accounting entries to record its conveyance of ownership of the Keno Dam and certain associated lands and infrastructure on 07/30/2024 from PacifiCorp to the U.S. Department of the Interior.

Filed Date: 1/27/25.

Accession Number: 20250127-5241.

Comment Date: 5 p.m. ET 2/18/25.

Take notice that the Commission received the following exempt wholesale generator filings:

Docket Numbers: EG25-80-000.

Applicants: Evelyn Energy Storage LLC.

Description: Evelyn Energy Storage LLC submits Notice of Self-Certification of Exempt Wholesale Generator Status.

Filed Date: 1/28/25.

Accession Number: 20250128-5207.

Comment Date: 5 p.m. ET 2/18/25.

Docket Numbers: EG25-81-000.

Applicants: Northumberland Solar, LLC.

Description: Northumberland Solar, LLC submits Notice of Self-Certification of Exempt Wholesale Generator Status.

Filed Date: 1/29/25.

Accession Number: 20250129-5079.

Comment Date: 5 p.m. ET 2/19/25.

Take notice that the Commission received the following electric rate filings:

Docket Numbers: ER15-2589-005.

Applicants: CPV Shore, LLC.

Description: Compliance filing: Informational Filing Regarding Planned Transfer to be effective N/A.

Filed Date: 1/29/25.

Accession Number: 20250129-5146.

Comment Date: 5 p.m. ET 2/19/25.

Docket Numbers: ER25-312-001.

Applicants: Niagara Mohawk Power Corporation, New York Independent System Operator, Inc.

Description: Tariff Amendment: New York Independent System Operator, Inc. submits tariff filing per 35.17(b): NMPC Deficiency Response: Sterling Power Amended and Restated LGIA to be effective 11/1/2024.

Filed Date: 1/29/25.

Accession Number: 20250129-5175.

Comment Date: 5 p.m. ET 2/19/25.

Docket Numbers: ER25-952-001.

Applicants: PJM Interconnection, L.L.C.

Description: Tariff Amendment: Amendment of GIA, SA No. 7465; AG1-054 in Docket ER25-952-000 to be effective 12/17/2024.

Filed Date: 1/28/25.

Accession Number: 20250128-5230.

Comment Date: 5 p.m. ET 2/18/25.

Docket Numbers: ER25-1078-000.

Applicants: Duke Energy Indiana, LLC.

Description: 205(d) Rate Filing: Amended Rate Schedule No. 270 to be effective 4/1/2025.

Filed Date: 1/28/25.

Accession Number: 20250128-5226.

Comment Date: 5 p.m. ET 2/18/25.

Docket Numbers: ER25-1079-000.

Applicants: Boulder Solar II, LLC.

Description: 205(d) Rate Filing: MBR Tariff Update to be effective 1/29/2025.

Filed Date: 1/28/25.

Accession Number: 20250128-5236.

Comment Date: 5 p.m. ET 2/18/25.

Docket Numbers: ER25-1080-000.

Applicants: Harry Allen Solar Energy LLC.

Description: 205(d) Rate Filing: MBR Tariff Update to be effective 1/30/2025.

Filed Date: 1/29/25.

Accession Number: 20250129-5000.

Comment Date: 5 p.m. ET 2/19/25.

Docket Numbers: ER25-1081-000.

Applicants: Pacific Gas and Electric Company.

Description: Tariff Amendment: WDT SA 84: Termination of Clean Energy Systems, Inc. to be effective 3/31/2025.

Filed Date: 1/29/25.

Accession Number: 20250129-5001.

Comment Date: 5 p.m. ET 2/19/25.

Docket Numbers: ER25-1082-000.

Applicants: International Transmission Company, Post Rock Wind Power Project, LLC.

Description: 205(d) Rate Filing: Post Rock Wind Power Project, LLC submits tariff filing per 35.13(a)(2)(iii: 2025-01-29_SA 4438 ITCTransmission-DTE Electric E&P (J1944) to be effective 1/27/2025.

Filed Date: 1/29/25.

Accession Number: 20250129-5023.

Comment Date: 5 p.m. ET 2/19/25.

Docket Numbers: ER25-1084-000.

Applicants: Southwest Power Pool, Inc.

Description: 205(d) Rate Filing: 3346R1 East River Electric/Northern States Power/MISO IntAgr to be effective 4/1/2025.

Filed Date: 1/29/25.

Accession Number: 20250129-5049.

Comment Date: 5 p.m. ET 2/19/25.

Docket Numbers: ER25-1085-000.

Applicants: Southwest Power Pool, Inc.

Description: 205(d) Rate Filing: 1894R14 Evergy Kansas Central, Inc. NITSA NOA to be effective 1/1/2025.

Filed Date: 1/29/25.

Accession Number: 20250129-5054.

Comment Date: 5 p.m. ET 2/19/25.

Docket Numbers: ER25-1086-000.

Applicants: Southwest Power Pool, Inc.

Description: 205(d) Rate Filing: 1978R14 Evergy Kansas Central, Inc. NITSA NOA to be effective 1/1/2025.

Filed Date: 1/29/25.

Accession Number: 20250129-5062.

Comment Date: 5 p.m. ET 2/19/25.

Docket Numbers: ER25-1087-000.

Applicants: Northern States Power Company, a Minnesota corporation.

Description: 205(d) Rate Filing: 2025-01-29_SA 3034 NSP-East River 1st Rev TIA to be effective 4/1/2025.

Filed Date: 1/29/25.

Accession Number: 20250129-5082.

Comment Date: 5 p.m. ET 2/19/25.

Docket Numbers: ER25-1088-000.

Applicants: Southwest Power Pool, Inc.

Description: 205(d) Rate Filing: 3675R6 Doniphan Electric Cooperative Assn, Inc. NITSA NOA to be effective 1/1/2025.

Filed Date: 1/29/25.

Accession Number: 20250129-5089.

Comment Date: 5 p.m. ET 2/19/25.

Docket Numbers: ER25-1089-000.

Applicants: PJM Interconnection, L.L.C.

Description: 205(d) Rate Filing: Original NSA, SA Nos. 7516 & 7517; Queue No. H21_W68/K11 to be effective 6/14/2024.

Filed Date: 1/29/25.

Accession Number: 20250129-5096.

Comment Date: 5 p.m. ET 2/19/25.

Docket Numbers: ER25-1090-000.

Applicants: Southwest Power Pool, Inc.

Description: 205(d) Rate Filing: 2066R14 Evergy Kansas Central, Inc. NITSA NOA to be effective 1/1/2025.

Filed Date: 1/29/25.

Accession Number: 20250129-5100.

Comment Date: 5 p.m. ET 2/19/25.

Docket Numbers: ER25-1091-000.

Applicants: Union Electric Company.

Description: 205(d) Rate Filing: 2025-01-29_SA 2022 Ameren-Kirkwood 3rd Rev WDS to be effective 5/1/2025.

Filed Date: 1/29/25.

Accession Number: 20250129-5106.

Comment Date: 5 p.m. ET 2/19/25.

Docket Numbers: ER25-1092-000.

Applicants: Tri-State Generation and Transmission Association, Inc.

Description: 205(d) Rate Filing: Initial Filing of Confirmation Agreement and Request for Expedited Action to be effective 3/31/2025.

Filed Date: 1/29/25.

Accession Number: 20250129-5114.

Comment Date: 5 p.m. ET 2/19/25.

Docket Numbers: ER25-1093-000.

Applicants: Osagrove Flats Wind, LLC.

Description: Initial Rate Filing: Application for Market-Based Rate Authorization, Request for Related Waivers to be effective 4/1/2025.

Filed Date: 1/29/25.

Accession Number: 20250129-5126.

Comment Date: 5 p.m. ET 2/19/25.

Docket Numbers: ER25-1094-000.

Applicants: CPV Shore, LLC.

Description: CPV Shore, LLC requests prospective waiver of filing requirement under Schedule 2 to the PJM Interconnection, L.L.C. OATT re CPV Shores submittal of informational filing 90 days prior to planned transfer of indirect ownership interests.

Filed Date: 1/29/25.

Accession Number: 20250129-5170.

Comment Date: 5 p.m. ET 2/19/25.

The filings are accessible in the Commission's e-Library system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 29, 2025.
Carlos D. Clay,
Deputy Secretary.

[FR Doc. 2025-02192 Filed 2-3-25; 8:45 am]

BILLING CODE 6717-01-P